ENVIRONMENTAL PROTECTION AGENCY

[OPP-2004-0150; FRL-7359-8]

Pesticide Program Dialogue Committee; Notice of Public Meeting

AGENCY: Environmental Protection Agency (EPA).

ACTION: Notice.

SUMMARY: EPA's Office of Pesticide Programs will hold a public meeting of the Pesticide Program Dialogue Committee on May 25 and 26, 2004. An agenda is being developed and will be posted by May 18, 2004, on EPA's website at www.epa.gov/pesticides/. PPDC meetings provide a public forum for discussion and feedback to the Agency regarding evolving public policy and program implementation issues associated with evaluating and reducing risks from use of pesticides. The agenda for this meeting will include the following topics: A report from the PPDC Registration Review Work Group, Endangered Species, Environmental Marketing Claims and Fees Legislation. Program updates will be included on Human testing, Alternative non-animal testing, Mosquito labeling, the Reregistration roadmap to 2006-2008 and the Public Participation Process.

DATES: The meeting will be held on Tuesday, May 25, 2004, from 9 a.m. to 5 p.m., and Wednesday, May 26, 2004, from 9 a.m. to noon.

ADDRESSES: The meeting will be held at the National Rural Electric Cooperative Association (NRECA) Conference Center, 4301 Wilson Boulevard, Arlington, Virginia (703) 907-5500. The NRECA Conference Center is located approximately three blocks from the Ballston Metro Station and about a fifteen minute taxi ride from Ronald Reagan National Airport.

FOR FURTHER INFORMATION CONTACT: Margie Fehrenbach, Office of Pesticide Programs (7501C), Environmental Protection Agency, 1200 Pennsylvania Avenue, NW., Washington, DC 20460; telephone number: (703) 308-4775; fax number: (703) 308-4776; e-mail address: fehrenbach.margie@epa.gov.

SUPPLEMENTARY INFORMATION:

I. General Information

A. Does this Action Apply to Me?

This action is directed to the public in general; however, persons may be interested who work in agricultural settings or persons who are concerned about implementation of the Federal Insecticide, Fungicide and Rodenticide Act (FIFRA); the Federal Food, Drug, and Cosmetic Act (FFDCA); and the amendments to both of these major pesticide laws by the Food Quality Protection Act (FQPA), (Public Law 104-170) of 1996. Potentially affected entities may include but are not limited to: Agricultural workers and farmers; pesticide industry and trade associations; environmental, consumer and farmworker groups; pesticide users and growers; pest consultants; State, local and tribal governments; academia; public health organizations; food processors; and the public. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket ID number OPP-2004-0150. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Background

The Office of Pesticide Programs is entrusted with responsibilities for helping to ensure the safety of the American food supply, providing protection and education of those who apply or are exposed to pesticides occupationally or through use of products from unreasonable risk, and providing general protection of the environment and special ecosystems from potential risks posed by pesticides.

PPDC was established under the Federal Advisory Committee Act (FACA), Public Law 92-463, in 1995 and has been renewed every 2-years since that time. The current Charter was approved in November 2003 for another 2-year term and a copy of the PPDC Charter has been filed with appropriate Committees of Congress and the Library of Congress. New members to the PPDC have been appointed for this term. The PPDC Charter and list of new members can be found at EPA's website at: www.epa.gov/pesticides/ppdc.

The PPDC provides advice and recommendations to the Office of Pesticide Programs on a broad range of pesticide regulatory, policy and program implementation issues associated with evaluating and reducing risks from use of pesticides. The following sectors are represented on the PPDC: Pesticide industry and trade associations; environmental/public interest groups; farm worker organizations; pesticide user, grower and commodity groups; federal and state; local; tribal governments; academia; public health organizations; and the general public.

List of Subjects

Environmental protection, Agriculture, Agricultural workers, Chemicals, Foods, Pesticides, Pests, Registration, Tolerance Reassessment, Fees, Public Health.

Dated: May 5, 2004.
James Jones,
Director, Office of Pesticide Programs.

[FR Doc. 04-10876 Filed 5-12-04; 8:45 am]

BILLING CODE 6560-50-S